DEPARTMENT OF HEALTH AND HUMAN SERVICES

Agency for Healthcare Research and Quality

Meeting of the National Advisory Council for Healthcare Research and Quality

AGENCY: Agency for Healthcare Research and Quality (AHRQ), HHS.

ACTION: Notice of public meeting cancellation.

SUMMARY: In accordance with section 10(a) of the Federal Advisory Committee Act, 5 U.S.C. App. 2, this notice announces the cancellation of a meeting of the National Advisory Council for Healthcare Research and Quality.

DATES: The meeting would have been held on Friday, March 24, 2017, from 8:30 a.m. to 2:45 p.m.

ADDRESSES: The meeting would have been held at the Hubert H. Humphrey Building, Room 800, 200 Independence Avenue SW., Washington, DC 20201.

FOR FURTHER INFORMATION CONTACT: Jaime Zimmerman, Designated Management Official, at the Agency for Healthcare Research and Quality, 5600 Fishers Lane, Mail Stop 06E37A, Rockville, Maryland, 20857, (301) 427-1456. For press-related information, please contact Alison Hunt at (301) 427-1244 or Alison.Hunt@ahrq.hhs.gov.

SUPPLEMENTARY INFORMATION:

I. Purpose

The National Advisory Council for Healthcare Research and Quality is authorized by Section 941 of the Public Health Service Act, 42 U.S.C. 299c. In accordance with its statutory mandate, the Council is to advise the Secretary of the Department of Health and Human Services and the Director of AHRQ on matters related to AHRQ's conduct of its mission including providing guidance on (A) priorities for health care research, (B) the field of health care research including training needs and information dissemination on health care quality and (C) the role of the Agency in light of private sector activity and opportunities for public private partnerships. The Council is composed of members of the public, appointed by the Secretary, and Federal ex-officio members specified in the authorizing legislation. The Council did not have a quorum for the meeting scheduled for March 24th. Therefore, AHRQ is cancelling the meeting. The next meeting of the NAC is planned for July 26th.

Sharon B. Arnold,
Acting Director.

[FR Doc. 2017-05588 Filed 3-21-17; 8:45 am]

BILLING CODE 4160-90-P